DEPARTMENT OF EDUCATION

Annual Notice of Interest Rates of Federal Student Loans Made Under the William D. Ford Federal Direct Loan Program on or After July 1, 2013

AGENCY: Federal Student Aid, Department of Education.

ACTION: Notice.

Catalog of Federal Domestic Assistance (CFDA) Number: 84.268.

DATES: This notice is effective September 25, 2013.

SUMMARY: The Chief Operating Officer for Federal Student Aid announces the interest rates for loans made under the William D. Ford Federal Direct Loan (Direct Loan) Program on or after July 1, 2013, through June 30, 2014.

FOR FURTHER INFORMATION CONTACT: Ian Foss, U.S. Department of Education, 830 First Street NE., room 114I1, Washington, DC 20202. Telephone: (202) 377-3681 or by email: ian.foss@ed.gov.

If you use a telecommunications device for the deaf (TDD) or a text telephone (TTY), call the Federal Relay Service (FRS), toll free, at 1-800-877-8339.

Individuals with disabilities can obtain this document in an accessible format (e.g., braille, large print, audiotape, or compact disc) on request to the contact person listed under FOR FURTHER INFORMATION CONTACT.

SUPPLEMENTARY INFORMATION: Section 455(b) of the Higher Education Act of 1965, as amended (HEA) (20 U.S.C. 1087e(b)), provides formulas for determining the interest rates charged to borrowers for loans made under the Direct Loan Program including: Federal Direct Subsidized Stafford Loans (Direct Subsidized Loans); Federal Direct Unsubsidized Stafford Loans (Direct Unsubsidized Loans); Federal Direct PLUS Loans (Direct PLUS Loans); and Federal Direct Consolidation Loans (Direct Consolidation Loans).

Direct Subsidized Loans, Direct Unsubsidized Loans, and Direct PLUS Loans first disbursed on or after July 1, 2013, have a fixed interest rate that is calculated based on the high yield of the 10-year Treasury notes auctioned at the final auction held before June 1 of each year, plus a statutory add-on percentage. Therefore, while the interest rate determination for new loans will be different from year to year, such loans will have a fixed interest rate for the life of the loan. In each case, the calculated rate is capped by a maximum interest rate.

The following chart contains specific information on the calculation of the interest rates for Direct Loans first disbursed on or after July 1, 2013, and through June 30, 2014. We publish a separate notice containing the interest rates for Direct Loans that were made in prior years.

Fixed-Rate Direct Subsidized Loans, Direct Unsubsidized Loans, and Direct PLUS Loans First Disbursed on or After 7/1/2013 and Through 6/30/2014
Loan type | Student grade level | Cohort: First disbursed on/after | Cohort: First disbursed before | Index rate: 10-Year treasury note | Margin (percent) | 2013-2014 Fixed rate (percent) | Max. rate (percent)
Subsidized | Undergraduates | 7/1/2013 | 7/1/2014 | 1.81 | 2.05 | 3.86 | 8.25
Unsubsidized | Undergraduates | 7/1/2013 | 7/1/2014 | 1.81 | 2.05 | 3.86 | 8.25
Unsubsidized | Graduate/Professional Students | 7/1/2013 | 7/1/2014 | 1.81 | 3.60 | 5.41 | 9.50
PLUS | Parents of Dependent Undergraduates | 7/1/2013 | 7/1/2014 | 1.81 | 4.60 | 6.41 | 10.50
PLUS | Graduate/Professional Students | 7/1/2013 | 7/1/2014 | 1.81 | 4.60 | 6.41 | 10.50

If an application for a Direct Consolidation Loan is received by the Department on or after July 1, 2013, the interest rate on that loan is the weighted average of the consolidated loans, rounded up to the nearest higher ⅛ of 1 percent. Such Direct Consolidation Loans do not have an interest rate cap.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Program Authority: 20 U.S.C. 1087 et seq.

Dated: September 20, 2013.
James W. Runcie,
Chief Operating Officer, Federal Student Aid.

[FR Doc. 2013-23362 Filed 9-24-13; 8:45 am]

BILLING CODE 6450-01-P